DEPARTMENT OF THE INTERIOR

Fish and Wildlife Service

Notice of Intent To Prepare Comprehensive Conservation Plans for Reelfoot, Lake Isom, Chickasaw, Lower Hatchie, and Hatchie National Wildlife Refuges, and Sunk Lake Public Use Natural Area in Tennessee

SUMMARY: This notice advises the public that the Fish and Wildlife Service, Southeast Region, intends to gather information necessary to prepare comprehensive conservation plans and associated environmental documents pursuant to the Service's Comprehensive Conservation Planning Policy and the National Environmental Policy Act and implementing regulations to achieve the following:

(1) Advise other agencies and the public of our intentions, and

(2) Obtain suggestions and information on the scope of issues to include in the environmental documents.

Public scoping meetings will be held as follows:

Lower Hatchie National Wildlife Refuge, Sunk Lake Public Use Natural Area, Thursday, October 26, 2000, 7 P.M., Community Conference Room, Baptist Memorial Hospital, 1995 Highway 51 South, Covington, Tennessee 38019.

Chickasaw National Wildlife Refuge, Thursday, November 2, 2000, 7 P.M., Multi-Purpose Room, Tennessee Technology Center, 127 Industrial Drive, Ripley, Tennessee 38063.

Hatchie National Wildlife Refuge, Monday, November 6, 2000, 7 P.M., Brownsville-Haywood County Chamber of Commerce, 121 West Main, Brownsville, Tennessee 38012.

Reelfoot and Lakes Isom National Wildlife Refugees, Tuesday, November 14, 2000, 7 P.M., Ellington Center, Route 1, Box 2345, Tiptonville, Tennessee 38079, (Located on Highway 21-22, approximately 2 miles east of Tiptonville at the State Park Visitor Center.)

DATES: Written comments should be received within 60 days of this publication.

ADDRESSES: Address comments and requests for more information to the following: Rob Martin, U.S. Fish and Wildlife Service, 309 N. Church Street, Room 201, Dyersburg, Tennessee 38024, (901) 287-0650, (901) 286-0468 (Fax).

If you wish to comment, you may submit your comments by any one of several methods. You may mail comments to the above address. You may also comment via the Internet to the following address: Rob_Martin@fws.gov. Please submit Internet comments as an ASCII file avoiding the use of special characters and any form of encryption. Please also include your name and return address in your Internet message. If you do not receive a confirmation from the system that we have received your Internet message, contact us directly at the above address. Our practice is to make comments, including names and home addresses of respondents, available for public review during regular business hours. Individual respondents may request that we withhold their home address from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

SUPPLEMENTARY INFORMATION: By Federal law, all lands within the National Wildlife Refuge System are to be managed in accordance with an approved comprehensive conservation plan. These plans will guide management decisions and identify refuge goals, long-range objectives, and strategies for achieving refuge purposes. The planning process will consider many elements, including public use management, habitat management, wildlife population management, and cultural resource identification and protection. Alternatives that address the issues and management strategies associated with these topics will be included in the environmental documents.

Pre-planning for each of the above stated national wildlife refuges, as well as the public use natural area, began in January 2000. Reelfoot Refuge was established in 1941 under terms of a 75-year cooperative agreement with the State of Tennessee. Lake Isom Refuge was established by a Presidential Proclamation in 1938. Chickasaw Refuge was established August 5, 1985, by the Migratory Bird Conservation Commission, as was Lower Hatchie Refuge in 1980, and Hatchie Refuge in 1964. Sunk Lake Public Use Natural Area was purchased in 1986 by the Natural and Cultural Areas Acquisition Fund. Reelfoot, Lake Isom, Chicasaw, and Lower Hatchie Refuges were established for use as inviolate sanctuaries, or for any other management purpose, for migratory birds. Hatchie Refuge was established to provide habitat for wintering and migrating waterfowl, particularly dabbling ducks. The Fish and Wildlife Service manages the Sunk Lake Public Use Natural Area in accordance with State Natural Area rules of the Tennessee Department of Conservation.

Dated: September 28, 2000.
H. Dale Hall,
Acting Regional Director.

[FR Doc. 00-25681 Filed 10-5-00; 8:45 am]

BILLING CODE 4310-55-M